FEDERAL COMMUNICATIONS COMMISSION

[DA 14-501]

Consumer Advisory Committee

AGENCY: Federal Communications Commission.

ACTION: Notice.

SUMMARY: The Commission announces the next meeting date, time, and agenda of its Consumer Advisory Committee (Committee). The purpose of the Committee is to make recommendations to the Commission regarding matters within the jurisdiction of the Commission and to facilitate the participation of all consumers in proceedings before the Commission.

DATES: May 19, 2014, 2:00 p.m. to 2:30 p.m.

ADDRESSES: Federal Communications Commission, 445 12th Street SW., Room TW-C438/468, Washington, DC 20554.

FOR FURTHER INFORMATION CONTACT: Scott Marshall, Consumer and Governmental Affairs Bureau, (202) 418-2809 (voice or TTY), or email Scott.Marshall@fcc.gov.

SUPPLEMENTARY INFORMATION: This is a summary of the Commission's document DA 14-501 released April 15, 2014, announcing the agenda, date, and time of the Committee's next meeting.

Meeting Agenda

At its May 19, 2014 meeting, the Committee will reaffirm recommendations adopted at its March 28, 2014 meeting regarding the IP transition, E-rate, a workshop to assess requirements for wireless medical test beds, and a commendation to the Commission regarding its recent TV caption quality rule. This reaffirmation is necessary because timely notice of action on these recommendations in the Federal Register was not provided as required by the Federal Advisory Committee Act, 5 U.S.C. App. 2 (1988). A limited amount of time will be available on the agenda for comments from the public.

Alternatively, Members of the public may send written comments to: Scott Marshall, Designated Federal Officer of the Committee at the address provided above.

The meeting is open to the public and the site is fully accessible to people using wheelchairs or other mobility aids. The meeting is open to the public, and the site is fully accessible to people using wheelchairs or other mobility aids. Reasonable accommodations for people with disabilities, such as sign language interpreters, open captioning, assistive listening devices, and Braille copies of the agenda are available upon request. The request should include a detailed description of the accommodation needed and contact information. Please provide as much advance notice as possible; last minute requests will be accepted, but may not be possible to fill. To request an accommodation, send an email to fcc504@fcc.gov or call the Consumer and Governmental Affairs Bureau at 202-418-0530 (voice), 202-418-0432 (TTY). Sign language interpreters, open captioning, assistive listening devices, and Braille copies of the agenda and handouts will be provided on site.

Federal Communications Commission.
Kris Anne Monteith,
Acting Chief, Consumer and Governmental Affairs Bureau.

[FR Doc. 2014-09284 Filed 4-22-14; 8:45 am]

BILLING CODE 6712-01-P